DEPARTMENT OF ENERGY

[Number DE-PS03-02SF22516]

Solicitation for Financial Assistance Applications; Nuclear Explosion Monitoring Research and Engineering Program

AGENCY: National Nuclear Security Administration (NNSA), Oakland Operations Office, Department of Energy (DOE).

ACTION: Notice of solicitation for financial assistance applications.

SUMMARY: The DOE/NNSA, through the Oakland Operations Office is seeking applications to increase nuclear explosion monitoring effectiveness through improved understanding of basic earthquake and explosion phenomenology. Research of a fundamental nature is sought to answer the question of how the seismic energy is generated from these phenomena (including distributed and single point explosions, double-couple earthquakes and other modes of rock failure) and how this energy is partitioned between P and S waves.

ADDRESSES: The formal solicitation document, Nuclear Explosion Monitoring Research and Engineering Program (DE-PS03-02SF22516), is available through the Industry Interactive Procurement System (IIPS) located at the following URL: http://e-center.doe.gov. IIPS provides the medium for disseminating solicitations, receiving financial assistance applications and evaluating applications in a paperless environment. Completed applications are required to be submitted via IIPS. Individuals who have the authority to enter their university or academic institution into a financial assistance award and intend to submit applications via the IIPS system must register and receive confirmation that they are registered prior to being able to submit an application on the IIPS system. An IIPS “User Guide for Contractor” can be obtained by going to the IIPS Homepage at the following URL: http://e-center.doe.gov and then clicking on the “Help” button. Questions regarding the operation of IIPS may be e-mailed to the IIPS Help Desk at IIPSHelpDesk@e-center.doe.gov or call the help desk at (800) 683-0751.

FOR FURTHER INFORMATION CONTACT: Gloria Abdullah-Lewis, Contract Specialist, U.S. Department of Energy, National Nuclear Security Administration, 1301 Clay Street (Room 700N), Oakland, CA 94612-5208; email gloria.abdullah-lewis@oak.doe.gov

SUPPLEMENTARY INFORMATION: Research of a fundamental nature is sought to answer the question of how the seismic energy is generated from these phenomena (including distributed and single point explosions, double-couple earthquakes and other modes of rock failure) and how this energy is partitioned between P and S waves. Specifically:

• How is the generation and partitioning of the seismic energy affected by properties such as (1) source region medium and overburden, (2) the local structure and (3) the surrounding tectonic province;

• What are the significant measurable effects of the partitioning of the seismic energy into various regional P and S phases, especially at high frequency; and

• What is the physical basis for a measurable property, such as magnitude that can be directly related to the yield of a fullycoupled explosion, and how do emplacement conditions effect the observation?

The solicitation document contains all the information relative to this action for prospective applicants. The North American Industry Classification System (NAICS) number for this program is 5417.

Issued in Oakland, CA, on April 2, 2002.
Georgia M. McClelland,
Acting Director, Financial Assistance Center, Oakland Operations Office.

[FR Doc. 02-8617 Filed 4-9-02; 8:45 am]

BILLING CODE 6450-01-P